DEPARTMENT OF ENERGY

Federal Energy Regulatory Commission

Notice of Waiver Period for Water Quality Certification Application

| Project No.
Eagle Creek Hydro Power, LLC | 9690-115
Eagle Creek Water Resources, LLC
Eagle Creek Land Resources, LLC
Eagle Creek Hydro Power, LLC | 10481-069
Eagle Creek Water Resources, LLC
Eagle Creek Land Resources, LLC
Eagle Creek Hydro Power, LLC | 10482-122
Eagle Creek Water Resources, LLC
Eagle Creek Land Resources, LLC

On November 30, 2022, Eagle Creek Hydro Power, LLC, Eagle Creek Water Resources, LLC, and Eagle Creek Land Resources, LLC (co-licensees) submitted to the Federal Energy Regulatory Commission a copy of their application for a Clean Water Act section 401(a)(1) water quality certification filed with the New York State Department of Environmental Conservation (New York DEC), in conjunction with the above captioned projects. Pursuant to 40 CFR 121.6 and section 5.23(b) of the Commission's regulations,¹ we hereby notify the New York State Department of Environmental Conservation (DEC) of the following:

¹ 18 CFR 5.23(b).

Date of Receipt of the Certification Request: November 30, 2022.

Reasonable Period of Time to Act on the Certification Request: One year (November 30, 2023).

If the New York DEC fails or refuses to act on the water quality certification request on or before the above date, then the agency certifying authority is deemed waived pursuant to section 401(a)(1) of the Clean Water Act, 33 U.S.C. 1341(a)(1).

Dated: December 8, 2022.
Kimberly D. Bose,
Secretary.

[FR Doc. 2022-27127 Filed 12-13-22; 8:45 am]

BILLING CODE 6717-01-P